NUCLEAR REGULATORY COMMISSION

[Docket No. 030-04858; NRC-2021-0148]

Dow Corning Corporation; Building DC-3

AGENCY: Nuclear Regulatory Commission.

ACTION: Environmental assessment and finding of no significant impact; issuance.

SUMMARY: The U.S. Nuclear Regulatory Commission (NRC) is considering approval of an amendment to Materials License 21-08362-08, issued on June 28, 2021 and held by Dow Corning Corporation, to approve the Decommissioning Plan for Building DC-3 and its adjacent areas, located at 2200 West Salzburg Road in Auburn, Michigan. If approved, the licensee would be allowed to implement the proposed Decommissioning Plan for decontamination and remediation of the affected areas of the DC-3 Building site, in order to meet the NRC's criteria for unrestricted use. As part of its review, the NRC conducted an assessment of the environmental impacts of the proposed decommissioning action. This notice provides details regarding the NRC's environmental assessment (EA) and the corresponding finding of no significant impact (FONSI).

DATES: The EA and FONSI referenced in this document are available on December 14, 2021.

ADDRESSES: Please refer to Docket ID NRC-2021-0148 when contacting the NRC about the availability of information regarding this document. You may obtain publicly available information related to this document using any of the following methods:

• Federal Rulemaking Website: Go to https://www.regulations.gov and search for Docket ID NRC-2021-0148. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays

FOR FURTHER INFORMATION CONTACT: Michael M. LaFranzo, Region III, U.S. Nuclear Regulatory Commission, Washington, DC 20555-0001, telephone: 630-829-9865, email: Michael.LaFranzo@nrc.gov.

SUPPLEMENTARY INFORMATION:

I. Introduction

The NRC is considering issuance of an amendment to Materials License 21-08362-08, issued to Dow Corning Corporation for operation of the Building DC-3, located at 2200 West Salzburg Road, in Bay County, Michigan. The amendment would approve the proposed Decommissioning Plan for the decontamination and remediation of the affected areas of the DC-3 Building site, to meet the NRC's criteria for unrestricted use. Therefore, as required by Section 51.30 of title 10 of the Code of Federal Regulations (10 CFR), “Environmental assessment,” the NRC performed an EA. Based on the results of the EA, the NRC has determined not to prepare an environmental impact statement (EIS) for the Decommissioning Plan Approval and is issuing a FONSI.

II. Environmental Assessment

Description of the Proposed Action

The proposed action is to amend Materials License 21-08362-08 to incorporate the appropriate and acceptable derived concentration guideline levels into the license and to decontaminate and remediate the affected areas of the DC-3 Building sufficiently to enable unrestricted use of the facility. The proposed action will allow Dow Corning Corporation to decommission the DC-3 building in accordance with NRC regulations.

The proposed action is in accordance with the licensee's application dated July 24, 2018, as supplemented by letter(s) dated September 10, 2018 and April 22, 2019.

Need for the Proposed Action

The amendment is needed so the licensee can decommission the DC-3 Building site in accordance with 10 CFR 30.36, “Expiration and termination of licenses and decommissioning of sites and separate buildings or outdoor areas,” and therefore reduce the residual radioactivity to a level that permits release of the facility for unrestricted use.

Environmental Impacts of the Proposed Action

The NRC staff has assessed the potential environmental impacts from Dow Corning Corporation decommissioning activities. The NRC staff has assessed the impacts of the proposed action on land use, historical and cultural resources; visual and scenic resources; water resources; climatology, meteorology and air quality; socioeconomics; noise; ecology; geology and soil; traffic and transportation; public and occupational health and safety; and waste management, and the approval of the proposed action would not result in an increased radiological risk to public health or the environment.

Environmental Impacts of the Alternatives to the Proposed Action

As an alternative to the proposed action, the staff considered denial of the proposed action (i.e., the “no-action” alternative). With respect to the DC-3 Building site, the no-action alternative would mean that the licensee would not be allowed to conduct decommissioning work.

The no-action alternative is not acceptable because it would put the licensee in violation of the NRC's Timeliness Rule regulations specified in 10 CFR 30.36. The Timeliness Rule requires licensees to decommission and release a licensed site, building, or portions thereof, for unrestricted use in a timely manner when licensed activities have permanently ceased.

Agencies and Persons Consulted

On April 28, 2021, the NRC staff consulted with Michigan Department of Environment, Great Lakes, and Energy, regarding the environmental impact of the proposed action. The state official concurred with the EA and FONSI.

III. Finding of No Significant Impact

The NRC staff determined that the proposed action complies with the requirements of Subpart E of 10 CFR part 20, “Radiological Criteria for License Termination.” Decommissioning of the site to the proposed derived concentration guideline levels will result in reduced residual contamination levels in the facility, enabling release of the facility for unrestricted use. No significant radiologically contaminated effluents are expected during the decommissioning. Occupational doses to decommissioning workers are expected to be low and well within the limits of 10 CFR part 20. No radiation exposure to any member of the public is expected, and public exposure will therefore also be less than the applicable public exposure limits of 10 CFR part 20.

On the basis of the EA, the NRC concludes that the proposed action will not have a significant effect on the quality of the human environment. Accordingly, the NRC has determined not to prepare an EIS for the proposed action and a FONSI is appropriate.

IV. Availability of Documents

The documents identified in the following table are available to interested persons through ADAMS, as indicated.

Document | ADAMS accession No.
Dow Corning Corporation—EA and FONSI, dated October 27, 2021 | ML21300A167
Decommissioning Notification for Dow Corning, dated July 24, 2018 | ML18228A804
The Dow Corning Corporation Notification to Cease Principal Activities, dated September 10, 2018 | ML18253A233
Dow Corning Corporation/The Dow Chemical Company re Decommissioning, dated April 22, 2019 | ML19114A482 (non-public, withheld pursuant to 10 CFR § 2.390).
Dow Corning Corporation, Licensee Response to NRC request for Information, dated April 14, 2020 | ML20105A239 (non-public, withheld pursuant to 10 CFR § 2.390).
Dow Corning Corporation—Licensee Response to NRC Request for Information for Decommissioning Plan, dated February 28, 2012 | ML21082A187
Dow Corning Corporation—Licensee Response to NRC Request for Information for Decommissioning Plan, dated February 15, 2021 | ML21049A026

Dated: December 8, 2021.
For the Nuclear Regulatory Commission.
Michael M. LaFranzo,
Senior Health Physicist, Materials Control, ISFSI and Decommissioning, Division of Nuclear Materials Safety, Region III.

[FR Doc. 2021-26962 Filed 12-13-21; 8:45 am]

BILLING CODE 7590-01-P